DEPARTMENT OF THE INTERIOR

Office of the Secretary; Revised Departmental Strategic Plan for FY 2003-2008

AGENCY: Office of the Secretary, Interior.

ACTION: Notice of availability.

SUMMARY: On September 30, 2003, the Department of the Interior released its revised Departmental Strategic Plan for FY 2003-2008. While the document remains available to the public through the Departmental Internet Web site, http://www.doi.gov, a limited number of printed copies of the Strategic Plan are now available upon request.

ADDRESSES: Written requests can be submit by: E-mail: strategic_plan@ios.doi.gov:

Fax: (202) 208-2619.

Mail: U.S. Department of the Interior, Office of the Secretary—Planning and Performance Management, 1849 C Street NW., Mail Stop 5258, Washington, DC 20240. Attention: GPRA Project Manager.

FOR FURTHER INFORMATION CONTACT: LeRon E. Bielak at (202) 208-1818.

SUPPLEMENTARY INFORMATION: The DOI has significantly departed from its past approaches to strategic planning. The DOI plan stands as the Government Performance and Results Act document for the entire agency. Commonality of mission function and desired results is given much greater weight than in previous plans. This overall approach is aimed at greater integration of purpose and function across the Department and at achieving improved performance and results.

Dated: March 2, 2004.
LeRon E. Bielak,
Acting Director—Office of Planning and Performance Management.

[FR Doc. 04-6808 Filed 3-25-04; 8:45 am]

BILLING CODE 4310-10-M